DEPARTMENT OF AGRICULTURE

Natural Resources Conservation Service

Notice of Proposed Change to Section IV of the Field Office Technical Guide (FOTG) of the Natural Resources Conservation Service in Idaho

AGENCY: Natural Resources Conservation Service (NRCS), Department of Agriculture.

ACTION: Notice of availability of proposed changes in the NRCS National Handbook of Conservation Practices for review and comment.

SUMMARY: It is the intention of the NRCS in Idaho to issue revised conservation practice standard: Agrichemical Mixing Facility (702), Alley Cropping (311), Composting Facility (317), Conservation Cover (327), Conservation Crop Rotation (328), Contour Farming (330), Contour Stripcropping (585), Cover Crop (340), Deep Tillage (324), Fish Passage (396), Grassed Waterway (412), Grazing Land Mechanical Treatment (548), Irrigation Water Conveyance, Ditch and Canal Lining Nonreinforced Concrete (428A), Irrigation Water Management (449), Land Smoothing (466), Nutrient Management (590), Pest Management (595), Pipeline (516), Prescribed Burning (338), Pumping Plant for Water Control (533), Residue Management, Mulch Till (329B), Riparian Forest Buffer (391), Spoil Spreading (572), Spring Development (574), Stream Habitat Improvement and Management (395), Surface Roughening (609), Underground Outlet (620), Use Exclusion (472), and Windbreak/Shelterbelt Establishment (380).

DATES: Comments will be received for a 30-day period commending with this date of publication.

FOR FURTHER INFORMATION CONTACT: Inquire in writing to Richard W. Sims, State Conservationist, Natural Resources Conservation Service (NRCS), 9173 W. Barnes Dr., Suite C, Boise, Idaho 83709. Copies of the practice standards will be made available upon written request.

SUPPLEMENTARY INFORMATION: Section 343 of the Federal Agriculture Improvement and Reform Act of 1996 states that revisions made after enactment of the law to NRCS State Technical Guides used to carry out highly erodible land and wetland provisions of the law shall be made available for public review and comment. The next 30 days the NRCS in Idaho will receive comments relative to the proposed changes. Following that period a determination will be made by the NRCS in Idaho regarding disposition of those comments and a final determination of change will be made.

Dated: March 15, 2002.
Richard W. Sims,
State Conservationist, USDA, Natural Resources Conservation Service, Boise, Idaho 83709.

[FR Doc. 02-7555 Filed 3-28-02; 8:45 am]

BILLING CODE 3410-16-P